DEPARTMENT OF LABOR

Employment and Training Administration

[NAFTA—6508]

Pliant Solutions, Fort Edward, NY; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2331), an investigation was initiated on August 23, 2002, in response to a worker petition which was filed by PACE International Union, AFL-CIO, Local #01-0013 on behalf of workers at Pliant Solutions, Fort Edward, New York.

The petitioner has requested that the petition be withdrawn. Consequently further investigation in this case would serve no purpose, and the investigation has been terminated.

Signed in Washington, DC, this 30th day of October, 2002.
Richard Church,
Certifying Officer, Division of Trade Adjustment Assistance.

[FR Doc. 02-29628 Filed 11-20-02; 8:45 am]

BILLING CODE 4510-30-P